DEPARTMENT OF HOUSING AND URBAN DEVELOPMENT

[Docket No. FR-4644-N-45]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street, SW., Washington, DC 20410; telephone (202) 708-1234; TTY number for the hearing- and speech-impaired (202) 708-2565 (these telephone numbers are not toll-free);, or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/availabe or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Army: Mr. Jeff Holste, Military Programs, U.S. Army Corps of Engineers, Installation Support Center, Planning Branch, Attn: CEMP-IP, 441 G Street, NW., Washington, DC 20314-1000; (202) 761-5737; DOT: Mr. Rugene Spruill, Space Management, SVC-140, Transportation Administrative Service Center, Department of Transportation 400 7th Street, SW. Room 2310, Washington, DC 20590; (202) 366-4246; GSA: Mr. Brian K. Polly, Assistant Commissioner, General Services Administration, Office of Property Disposal, 18th and F Streets, NW., Washington, DC 20405; (202) 501-0052; Navy: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: November 1, 2001.
John D. Garrity,
Director, Office of Special Needs Assistance Programs.

TITLE V, FEDERAL SURPLUS PROPERTY PROGRAM FEDERAL REGISTER REPORT FOR 11/9/01

Suitable/Available Properties

Buildings (by State)

Massachusetts

Aircraft Hanger

Hanscom Air Force Base

Concord Co: MA

Landholding Agency: GSA

Property Number: 54200140007

Status: Excess

Comment: 40,000 sq. ft., off-site use only, relocating property may not be feasible

GSA Number: 1-D-MA-0857679

New York

ROVA NHS Laboratory

4097 Albany Post Road

Hyde Park Co: NY 12538-

Landholding Agency: GSA

Property Number: 54200140008

Status: Excess

Comment: 2491 sq. ft., pre-engineered metal, most recent use—lab/storage, off-site use only

GSA Number: 1-I-NY-891

North Dakota

Storage Bldg.

117 W. Main St.

Bismarck Co: Burleigh ND 58501-

Landholding Agency: GSA

Property Number: 54200140009

Status: Surplus

Comment: 3200 sq. ft., most recent use—storage, eligible for listing on the Natl Register for Historic Places

GSA Number: 7-G-ND-0406

Land (by State)

California

Portion of Land

Naval Base, Point Loma

Murphy Canyon

San Diego Co: CA 92124-

Landholding Agency: Navy

Property Number: 77200140012.

Status: Unutilized

Comment: 24,350 sq. ft. of parking lot, adjacent to environmentally sensitive area

Suitable/Unavailable Properties

Buildings (by State)

Kentucky

Soc. Sec. Admin. Fed. Bldg.

614 Master Street

Corbin Co: KY 40702-

Landholding Agency: GSA

Property Number: 54200120001

Status: Excess

Comment: Republished; approx. 9078 sq. ft., some repair needed, presence of asbestos/lead paint, most recent use—offices

GSA Number: 4-G-KY-609

Maryland

La Plata Housing

Radio Station Rd.

La Plata Co: Charles MD

Landholding Agency: GSA

Property Number: 54200110006

Status: Excess

Comment: Republished; townhouse complex of 20 units, 3-bedroom units=997 sq. ft., 1115 sq. ft., and 1011 sq. ft., needs rehab, presence of asbestos/lead paint

GSA Number: 4-N-MD-601

South Carolina

SSA/Fed. Bldg.

404 East Main St.

Rock Hill Co: York SC 29730-

Landholding Agency: GSA

Property Number: 54200120013

Status: Surplus

Comment: Republished; 4585 sq. ft., presence of asbestos, most recent use—office

GSA Number: 4-G-SC-600

Tennessee

Marine Corps Rsv Center

2109 W. Market St.

Johnson City Co: Washington TN 37604-

Landholding Agency: GSA

Property Number: 54200120003

Status: Surplus

Comment: Republished; 4 bldgs., presence of asbestos/lead paint, possible environmental restrictions, most recent use—training/storage

GSA Number: 4-N-TN-0651

Unsuitable Properties

Buildings (by State)

Alabama

Bldg. T00401

Fort McClellan

Ft. McClellan Co: Calhoun AL 36201-

Landholding Agency: Army

Property Number: 21200140001

Status: Underutilized

Reason: Gas chamber

Alaska

Bldg. B000

Point Higgins

Ketchikan Co: AK 99901-

Landholding Agency: DOT

Property Number: 87200140012

Status: Excess

Reason: Extensive deterioration

Arizona

Bldg. 00003

Camp Navajo

Bellemont Co: AZ 86015-

Landholding Agency: Army

Property Number: 21200140002

Status: Unutilized

Reason: Within 2000 ft. of flammable or explosive material Secured Area

Bldg. S0044

Camp Navajo

Bellemont Co: AZ 86015-

Landholding Agency: Army

Property Number: 21200140003

Status: Unutilized

Reason: Within 2000 ft. of flammable or explosive material; Secured Area; Extensive deterioration

Bldg. S0213

Camp Navajo

Bellemont Co: AZ 86015-

Landholding Agency: Army

Property Number: 21200140004

Status: Unutilized

Reason: Within 2000 ft. of flammable or explosive material; Secured Area; Extensive deterioration

Bldg. 00217

Camp Navajo

Bellemont Co: AZ 86015-

Landholding Agency: Army

Property Number: 21200140005

Status: Unutilized

Reason: Within 2000 ft. of flammable or explosive material; Secured Area; Extensive deterioration

Bldg. S0220

Camp Navajo

Bellemont Co: AZ 86015-

Landholding Agency: Army

Property Number: 21200140006

Status: Unutilized

Reason: Within 2000 ft. of flammable or explosive material, Secured Area, Extensive deterioration

Bldg. S0250

Camp Navajo

Bellemont Co: AZ 86015-

Landholding Agency: Army

Property Number: 21200140007

Status: Unutilized

Reason: Within 2000 ft. of flammable or explosive material; Secured Area; Extensive deterioration

Bldg. 00310

Camp Navajo

Bellemont Co: AZ 86015-

Landholding Agency: Army

Property Number: 21200140008

Status: Unutilized

Reason: Within 2000 ft. of flammable or explosive material; Secured Area; Extensive deterioration

Bldg. S0322

Camp Navajo

Bellemont Co: AZ 86015-

Landholding Agency: Army

Property Number: 21200140009

Status: Unutilized

Reason: Within 2000 ft. of flammable or explosive material; Secured Area; Extensive deterioration

Bldg. S0327

Camp Navajo

Bellemont Co: AZ 86015-

Landholding Agency: Army

Property Number: 21200140010

Status: Unutilized

Reason: Secured Area; Extensive deterioration

Arkansas

Bldg. 1336

Fort Chaffee

Ft. Chaffee Co: Sebastian AR 72905-1370

Landholding Agency: Army

Property Number: 21200140011

Status: Unutilized

Reason: Extensive deterioration

Bldg. 1759

Fort Chaffee

Ft. Chaffee Co: Sebastian AR 72905-1370

Landholding Agency: Army

Property Number: 21200140012

Status: Unutilized

Reason: Extensive deterioration

Bldgs. 2037, 2219

Fort Chaffee

Ft. Chaffee Co: Sebastian AR 72905-1370

Landholding Agency: Army

Property Number: 21200140013

Status: Unutilized

Reason: Extensive deterioration

Bldgs. 2513, 2515

Fort Chaffee

Ft. Chaffee Co: Sebastian AR 72905-1370

Landholding Agency: Army

Property Number: 21200140014

Status: Unutilized

Reason: Extensive deterioration

California

Bldg. S-493, S-494

Fort Irwin

Ft. Irwin Co: San Bernardino CA 92310-

Landholding Agency: Army

Property Number: 21200140015

Status: Unutilized

Reason: Secured Area; Extensive deterioration

Bldg. PM388

Naval Air Station, Point

Mugu

Oxnard Co: Ventura CA 93042-5000

Landholding Agency: Navy

Property Number: 77200140010

Status: Unutilized

Reason: Extensive deterioration

Georgia

Bldg. 710

Fort Gillem

Ft. Gillem Co: GA

Landholding Agency: Army

Property Number: 21200140016

Status: Unutilized

Reason: Secured Area; Extensive deterioration

Bldg. 736

Fort Gillem

Ft. Gillem Co: GA

Landholding Agency: Army

Property Number: 21200140017

Status: Unutilized

Reasons: Secured Area; Extensive deterioration

Bldg. 331

Fort Benning

Ft. Benning Co: Muscogee GA 31905-

Landholding Agency: Army

Property Number: 21200140018

Status: Unutilized

Reason: Extensive deterioration

Bldg. 1624

Fort Benning

Ft. Benning Co: Muscogee GA 31905-

Landholding Agency: Army

Property Number: 21200140019

Status: Unutilized

Reason: Extensive deterioration

Bldg. 1625

Fort Benning

Ft. Benning Co: Muscogee GA 31905-

Landholding Agency: Army

Property Number: 21200140020

Status: Unutilized

Reason: Extensive deterioration

Bldg. 10941

Fort Benning

Ft. Benning Co: Muscogee GA 31905-

Landholding Agency: Army

Property Number: 21200140021

Status: Unutilized

Reason: Extensive deterioration

8 Bldgs.

Fort Gordon

Ft. Gordon Co: Richmond GA 30905-

Location: #2303, 2315, 2317, 2319, 2321, 2323, 2331, 2333

Landholding Agency: Army

Property Number: 21200140022

Status: Unutilized

Reason: Extensive deterioration

Hawaii

Bldg. P-13, 14, 18

Kahuku Training Area

Kahuku Co: HI 96731-

Landholding Agency: Army

Property Number: 21200140023

Status: Unutilized

Reason: Extensive deterioration

Bldg. P-20

Kahuku Training Area

Kahuku Co: HI 96731-

Landholding Agency: Army

Property Number: 21200140024

Status: Unutilized

Reason: Extensive deterioration

Bldg. P-28

Kahuku Training Area

Kahuku Co: HI 96731-

Landholding Agency: Army

Property Number: 21200140025

Status: Unutilized

Reason: Extensive deterioration

Bldg. S-151

Kahuku Training Area

Kahuku Co: HI 96731-

Landholding Agency: Army

Property Number: 21200140026

Status: Unutilized

Reason: Extensive deterioration

Bldg. P-152

Kahuku Training Area

Kahuku Co: HI 96731-

Landholding Agency: Army

Property Number: 21200140027

Status: Unutilized

Reason: Extensive deterioration

9 Bldgs.

Schofield Barracks

Wahiawa Co: HI 96786-

Location: 3403, 3409, 3419, 3423, 3515, 3518, 3508, 3603, 3611

Landholding Agency: Army

Property Number: 21200140028

Status: Unutilized

Reason: Extensive deterioration

7 Bldgs.

Schofield Barracks

Wahiawa Co: HI 96786-

Location: 3427, 3432, 3440, 3610, 3621, 3805, 3810

Landholding Agency: Army

Property Number: 21200140029

Status: Unutilized

Reason: Extensive deterioration

31 Bldgs.

Schofield Barracks

Wahiawa Co: HI 96786-

Location: 3434, 3436, 3438, 3442, 3448, 3716, 3717, 3721, 3605, 3617, 3618, 3620, 3624-3627, 3630, 3631, 3701, 3702, 3711, 3722, 3802, 3803, 3809, 3704, 3706, 3707, 3710, 3814, 3815

Landholding Agency: Army

Property Number: 21200140030

Status: Unutilized

Reason: Extensive deterioration

34 Bldgs.

Schofield Barracks

Wahiawa Co: HI 96786-

Location: 3401-3402, 3405-3406, 3410-3411, 3413-3417, 3420-3421, 3514, 3517, 3520, 3522, 3523, 3501-3503, 3505-3506, 3509-3510, 3512-3513, 3601, 3604, 3424, 3426, 3524, 3613-3614

Landholding Agency: Army

Property Number: 21200140031

Status: Unutilized

Reason: Extensive deterioration

4 Bldgs.

Schofield Barracks

Wahiawa Co: HI 96786-

Location: 3430, 3608, 3713, 3720

Landholding Agency: Army

Property Number: 21200140032

Status: Unutilized

Reason: Extensive deterioration

3 Bldgs.

Schofield Barracks

Wahiawa Co: HI 96786-

Location: 3636, 3638, 3641

Landholding Agency: Army

Property Number: 21200140033

Status: Unutilized

Reason: Extensive deterioration

4 Bldgs.

Schofield Barracks

Wahiawa Co: HI 96786-

Location: 3637, 3642, 3646, 3648

Landholding Agency: Army

Property Number: 21200140034

Status: Unutilized

Reason: Extensive deterioration

Bldg. 4114

Schofield Barracks

Wahiawa Co: HI 96786-

Landholding Agency: Army

Property Number: 21200140035

Status: Unutilized

Reason: Extensive deterioration

Bldg. 4226

Schofield Barracks

Wahiawa Co: HI 96786-

Landholding Agency: Army

Property Number: 21200140036

Status: Unutilized

Reason: Extensive deterioration

4 Bldgs.

Schofield Barracks

Wahiawa Co: HI 96786-

Location: 9004, 9022, 9106, 9110

Landholding Agency: Army

Property Number: 21200140037

Status: Unutilized

Reason: Extensive deterioration

18 Bldgs.

Schofield Barracks

Wahiawa Co: HI 96786-

Location: 9008, 9010, 9014, 9060, 9064, 9068, 9120, 9124, 9134, 9136, 9144, 9146, 9148, 9150, 9152, 9154, 9164, 9170

Landholding Agency: Army

Property Number: 21200140038

Status: Unutilized

Reason: Extensive deterioration

Bldg. 9012

Schofield Barracks

Wahiawa Co: HI 96786-

Landholding Agency: Army

Property Number: 21200140039

Status: Unutilized

Reason: Extensive deterioration

Bldg. 9024

Schofield Barracks

Wahiawa Co: HI 96786-

Landholding Agency: Army

Property Number: 21200140040

Status: Unutilized

Reason: Extensive deterioration

7 Bldgs.

Aliamanu Military

Reservation

Honolulu Co: HI 96818-

Location: 200, 403, 419, 432, 938, 1249, 1321

Landholding Agency: Army

Property Number: 21200140041

Status: Unutilized

Reason: Extensive deterioration

3 Bldgs.

Aliamanu Military

Reservation

Honolulu Co: HI 96818-

Location: 1418, 1455, 1459

Landholding Agency: Army

Property Number: 21200140042

Status: Unutilized

Reason: Extensive deterioration

Illinois

Bldg. 53

Rock Island Arsenal

Rock Island Co: IL 61299-5000

Landholding Agency: Army

Property Number: 21200140043

Status: Unutilized

Reason: Within 2000 ft. of flammable or explosive material; Extensive deterioration

Bldg. 86

Rock Island Arsenal

Rock Island Co: IL 61299-5000

Landholding Agency: Army

Property Number: 21200140044

Status: Unutilized

Reason: Within 2000 ft. of flammable or explosive material

Bldgs. 122/123

Rock Island Arsenal

Rock Island Co: IL 61299-5000

Landholding Agency: Army

Property Number: 21200140045

Status: Unutilized

Reason: Secured Area

Bldg. 206

Rock Island Arsenal

Rock Island Co: IL 61299-5000

Landholding Agency: Army

Property Number: 21200140046

Status: Unutilized

Reason: Within 2000 ft. of flammable or explosive material

Kentucky

Bldg. T00834

Fort Campbell

Ft. Campbell Co: Christian KY 42223-

Landholding Agency: Army

Property Number: 21200140047

Status: Unutilized

Reason: Extensive deterioration

Bldg. T00836

Fort Campbell

Ft. Campbell Co: Christian KY 42223-

Landholding Agency: Army

Property Number: 21200140048

Status: Unutilized

Reason: Extensive deterioration

3 Bldgs.

Fort Campbell

T002131, T002135, T002137

Ft. Campbell Co: Christian KY 42223-

Landholding Agency: Army

Property Number: 21200140049

Status: Unutilized

Reason: Extensive deterioration

Bldg. T02156

Fort Campbell

Ft. Campbell Co: Christian KY 42223-

Landholding Agency: Army

Property Number: 21200140050

Status: Unutilized

Reason: Extensive deterioration

Bldgs. T02446, T02158

Fort Campbell

Ft. Campbell Co: Christian KY 42223-

Landholding Agency: Army

Property Number: 21200140051

Status: Unutilized

Reason: Extensive deterioration

Bldg. T002708

Fort Campbell

Ft. Campbell Co: Christian KY 42223-

Landholding Agency: Army

Property Number: 21200140052

Status: Unutilized

Reason: Extensive deterioration

Bldg. T05328

Fort Campbell

Ft. Campbell Co: Christian KY 42223-

Landholding Agency: Army

Property Number: 21200140053

Status: Unutilized

Reason: Extensive deterioration

Louisiana

Bldg. 4962

Fort Polk

Ft. Polk Co: Vernon Parish LA 71459-

Landholding Agency: Army

Property Number: 21200140054

Status: Unutilized

Reason: Floodway

Maryland

Bldgs. 03753, 03754

Aberdeen Proving Ground

Aberdeen Co: Hartford MD 21005-5001

Landholding Agency: Army

Property Number: 21200140055

Status: Unutilized

Reason: Extensive deterioration

Bldg. 175

Ft. George G. Meade

Ft. Meade Co: Anne Arundel MD 20755-

Landholding Agency: Army

Property Number: 21200140056

Status: Unutilized

Reason: Extensive deterioration

Bldgs. 186, 249

Ft. George G. Meade

Ft. Meade Co: Anne Arundel MD 20755-

Landholding Agency: Army

Property Number: 21200140057

Status: Unutilized

Reason: Extensive deterioration

Bldg. 948

Ft. George G. Meade

Ft. Meade Co: Anne Arundel MD 20755-

Landholding Agency: Army

Property Number: 21200140058

Status: Unutilized

Reason: Extensive deterioration

Bldg. 951

Ft. George G. Meade

Ft. Meade Co: Anne Arundel MD 20755-

Landholding Agency: Army

Property Number: 21200140059

Status: Unutilized

Reason: Extensive deterioration

Bldgs. 968, 978, 988, 998

Ft. George G. Meade

Ft. Meade Co: Anne Arundel MD 20755-

Landholding Agency: Army

Property Number: 21200140060

Status: Unutilized

Reason: Extensive deterioration

Michigan

Calfac Building

Keweenaw Peninsula Waterway

Hancock Township Co: Houghton MI

Landholding Agency: DOT

Property Number: 87200140013

Status: Unutilized

Reason: Secured Area

New York

Bldgs. 2228, 2229

Stewart Newburgh USARC

New Windsor Co: Orange NY 12553-9000

Landholding Agency: Army

Property Number: 21200140061

Status: Unutilized

Reason: Secured Area

Bldg. 222

Ernie Pyle USARC

Ft. Totten

Flushing Co: Queens NY 11359-1016

Landholding Agency: Army

Property Number: 21200140062

Status: Unutilized

Reason: Secured Area

Bldgs. 201-205, 231, 219, 217

Orangeburg USARC

Orangeburg Co: Rockland NY 10962-2209

Landholding Agency: Army

Property Number: 21200140063

Status: Unutilized

Reason: Secured Area

North Carolina

Bldgs. 2-1452, 2-6105

Fort Bragg

Ft. Bragg Co: Cumberland NC 28310-5000

Landholding Agency: Army

Property Number: 21200140064

Status: Unutilized

Reason: Extensive deterioration

Bldg. H-39

Marine Corps Base

Camp LeJeune Co: NC 28542-0004

Landholding Agency: Navy

Property Number: 77200140011

Status: Excess

Reason: Extensive deterioration

Ohio

Bldgs. 24, 25, 26, 28, 29

Defense Supply Center

Columbus Co: Franklin OH 43216-5000

Landholding Agency: Army

Property Number: 21200140065

Status: Unutilized

Reason: Extensive deterioration

Bldg. 31

Defense Supply Center

Columbus Co: Franklin OH 43216-5000

Landholding Agency: Army

Property Number: 21200140066

Status: Unutilized

Reason: Extensive deterioration

Bldg. 7310

Defense Supply Center

Columbus Co: Franklin OH 43216-5000

Landholding Agency: Army

Property Number: 21200140067

Status: Unutilized

Reason: Extensive deterioration

Bldg. T-311

Defense Supply Center

Columbus Co: Franklin OH 43216-5000

Landholding Agency: Army

Property Number: 21200140068

Status: Unutilized

Reason: Extensive deterioration

Bldg. 312

Defense Supply Center

Columbus Co: Franklin OH 43216-5000

Landholding Agency: Army

Property Number: 21200140069

Status: Unutilized

Reason: Extensive deterioration

Bldg. T-313

Defense Supply Center

Columbus Co: Franklin OH 43216-5000

Landholding Agency: Army

Property Number: 21200140070

Status: Unutilized

Reason: Extensive deterioration

Pennsylvania

Bldg. 76

Defense Distribution Depot

New Cumberland Co: York PA 17070-5002

Landholding Agency: Army

Property Number: 21200140071

Status: Unutilized

Reason: Secured Area

Washington

Bldgs. 1161, 1163

Fort Lewis

Ft. Lewis Co: Pierce WA 98433-9500

Landholding Agency: Army

Property Number: 21200140072

Status: Excess

Reason: Extensive deterioration

Bldg. 1162

Fort Lewis

Ft. Lewis Co: Pierce WA 98433-9500

Landholding Agency: Army

Property Number: 21200140073

Status: Excess

Reason: Extensive deterioration

Land (by State)

Illinois

7 Parcels

Illinois Waterway, Cal-Sag

Channel

Chicago Co: Cook IL 60633-

Landholding Agency: GSA

Property Number: 54200140006

Status: Excess

Reason: Within 2000 ft. of flammable or explosive material

GSA Number: 1-D-IL-654-A

[FR Doc. 01-27903 Filed 11-8-01; 8:45 am]

BILLING CODE 4210-29-M